SMALL BUSINESS ADMINISTRATION

[Disaster Declaration #12714 and #12715]

Montana Disaster #MT-00062

AGENCY: U.S. Small Business Administration.

ACTION: Notice.

SUMMARY: This is a Notice of the Presidential declaration of a major disaster for the State of Montana (FEMA-1996-DR), dated 07/26/2011.

Incident: Severe Storms and Flooding.

Incident Period: 04/03/2011 through 07/22/2011.

Effective Date: 07/26/2011.

Physical Loan Application Deadline Date: 09/26/2011.

Economic Injury (EIDL) Loan Application Deadline Date: 04/26/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 07/26/2011, applications for disaster loans may be filed at the address listed above or other locally announced locations.

The following areas have been determined to be adversely affected by the disaster:

Primary Counties (Physical Damage and Economic Injury Loans)

Big Horn, Carbon, Cascade, Custer, Fergus, Garfield, Hill, Jefferson, Judith Basin, Lewis And Clark, Missoula, Musselshell, Petroleum, Sweet Grass, Valley, Yellowstone, and the Blackfeet Indian Reservation, Crow Indian Reservation, and the Fort Belknap Reservation.

Contiguous Counties (Economic Injury Loans Only)

Montana

Blaine, Broadwater, Carter, Chouteau, Daniels, Deer Lodge, Fallon, Flathead, Gallatin, Golden Valley, Granite, Lake, Liberty, Madison, McCone, Meagher, Mineral, Park, Phillips, Powder River, Powell, Prairie, Ravalli, Roosevelt, Rosebud, Sanders, Silver Bow, Stillwater, Teton, Treasure, Wheatland.

Idaho

Clearwater, Idaho.

Wyoming

Big Horn, Park, Sheridan.

The Interest Rates are:

| Percent
For Physical Damage:
Homeowners with Credit Available Elsewhere | 5.125
Homeowners without Credit Available Elsewhere | 2.563
Businesses with Credit Available Elsewhere | 6.000
Businesses without Credit Available Elsewhere | 4.000
Non-Profit Organizations with Credit Available Elsewhere | 3.250
Non-Profit Organizations without Credit Available Elsewhere | 3.000
For Economic Injury:
Businesses & Small Agricultural Cooperatives Without Credit Available Elsewhere | 4.000
Non-Profit Organizations Without Credit Available Elsewhere | 3.000

The number assigned to this disaster for physical damage is 12714B and for economic injury is 127150.

(Catalog of Federal Domestic Assistance Numbers 59002 and 59008)

James E. Rivera.
Associate Administrator for Disaster Assistance.

[FR Doc. 2011-19850 Filed 8-4-11; 8:45 am]

BILLING CODE 8025-01-P